DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 67, No. 125, pp. 43632-43633, dated Friday, June 28, 2002; Vol. 67, No. 207, p. 65589, dated Friday, October 25, 2002) is amended to reflect a change to the organizational structure of CMS by establishing the Office of Health Insurance Portability and Accountability Act Standards.

The specific amendments to part F are described below:

• Section F.10. (Organization) is amended to read as follows:

1. Public Affairs Office (FAC)

2. Center for Beneficiary Choices (FAE)

3. Office of Legislation (FAF)

4. Center for Medicare Management (FAH)

5. Office of Equal Opportunity and Civil Rights (FAJ)

6. Office of Research, Demonstration, and Information (FAK)

7. Office of Clinical Standards and Quality (FAM)

8. Office of the Actuary (FAN)

9. Center for Medicaid and State Operations (FAS)

10. Northeastern Consortium (FAU)

11. Southern Consortium (FAV)

12. Midwestern Consortium (FAW)

13. Western Consortium (FAX)

14. Office of Operations Management (FAY)

15. Office of Internal Customer Support (FBA)

16. Office of Information Services (FBB)

17. Office of Financial Management (FBC)

18. Office of Strategic Operations and Regulatory Affairs (FGA)

19. Office of Health Insurance Portability and Accountability Act Standards (FHA)

• Section F.20. (Functions) is amended by deleting the functional statement in its entirety for the Office of Operations Management. The new functional statement reads as follows:

14. Office of Operations Management (FAY)

• Analyzes and evaluates project time lines, schedules, and new methodologies. Evaluates and recommends project management alternatives to the Deputy Administrator/COO and the Agency.

• Prepares and presents recommendations to the Administrator, Deputy Administrator/COO and other high level CMS and Department officials on planning, leadership, implementation and policy issues concerning modifications to existing and proposed operating policies that will improve the administration and operations of programs and the Agency as a whole.

• Collaborates with appropriate CMS component(s) to collect and disseminate data on health care and insurance market trends that affect CMS' business risk profile. The Risk Management Staff has the lead for monitoring indicators of risk associated with the operations of CMS and our business partners.

• Surveys risk assessment techniques in use in the private and public sectors and identifies and applies the most useful ones for CMS. Helps develop new risk assessment techniques and keeps abreast of methodological developments in the professional literature.

• Promotes and teaches risk assessment methods to business owners throughout CMS. Promotes awareness of the importance of risk analysis as a component of business planning and trains CMS staff in specific techniques and their applicability in particular situations.

• Provides consulting services internally to Agency management and staff to identify processes or contracts that need improvement, to develop improvement strategies, and to monitor processes and improvements over time.

• Participates in agency-wide initiatives to streamline operations, improve accountability and performance, and implement management best practices. Provides leadership, training, and coaching in the implementation of the initiatives. Promotes a continuous improvement ethos.

Specific Project Management Functions

• Develops, in conjunction with staff in CMS centers and offices, major project plans, implementation schedules and post implementation evaluations.

• Promotes project planning principles throughout the Agency and provides technical guidance to the Agency on project planning and management techniques.

• Reports to the COO and senior officials on progress of Agency priority projects. Negotiates with and supports project and component heads regarding project schedules, progress, etc.

• Prepares and presents recommendations to senior officials regarding major projects.

• Analyzes and evaluates project time lines, schedules, and new methodologies. Evaluates and recommends project management alternatives to the Deputy Administrator/COO and the Agency.

• Collaborates with the Risk Management Staff, Operational Review Staff, and CMS senior management to identify and address enterprise-wide risk factors that lead to ineffective or inefficient operations.

• Conducts process control analysis and tracking to ensure projects are running smoothly.

• Prepares and presents recommendations to the Administrator, Deputy Administrator/COO and other high level CMS and Department officials on planning, leadership, implementation and policy issues concerning modifications to existing and proposed operating policies that will improve the administration and operations of programs and the Agency as a whole.

Specific Operational Review Functions

• Identifies operational vulnerabilities in CMS and develops and executes an internal audit plan for each fiscal year, subject to approval by the Deputy Administrator and other senior leadership of CMS.

• Plans and conducts targeted internal audits and makes recommendations to strengthen internal audits and improve the operations of the Agency. The subjects of these reviews will be determined through regular periodic consultation with the Project Management Staff, Risk 3 Management Staff, the Director of the Office of Operations Management, and the Deputy Administrator. Drafts written reports summarizing conclusions and presents findings to appropriate officials for follow-up actions.

• Monitors the implementation of corrective actions relative to ORS recommendations, as well as those resulting from selected OIG/GAO audits to assure results and accountability.

• Reviews and evaluates enterprise-wide programs, projects, and processes to assess their effectiveness and efficiency, compliance with laws, regulations, or adequacy of management processes.

• Provides consulting services internally to Agency management and staff to identify processes or contracts that need improvement, to develop improvement strategies, and to monitor processes and improvements over time.

• Participates in agency-wide initiatives to streamline operations, improve accountability and performance, and implement management best practices. Provides leadership, training, and coaching in the implementation of the initiatives. Promotes a continuous improvement ethos.

• Collaborates with the Risk Management Staff, Project Management Staff, and CMS senior management to identify and address enterprise-wide risk factors that lead to ineffective or inefficient operations.

• Serves as the Agency focal point for implementation of OMB Circular A-76 and Federal Activities Reform Act and Competitive Outsourcing Initiative.

• Coordinates the development of the Agency's submission to the OMB mandated Performance Assessment Rating Tool that links Agency program performance to the budget process. Serves as Agency liaison with the Department and OMB.

Special Racial and Ethnic Health Initiatives Functions

• Develops and sustains external contacts and partnerships regarding racial and ethnic health issues. Works collaboratively with the DHHS Office of Minority Health with responsibility for coordinating CMS activities with Departmental and White House initiatives that are directed by Executive Orders. Collaborates with the academic community, professional societies, civic, and social groups and non-government agencies concerning health problems of special populations.

• Provides direction in setting priorities, establishing goals and objectives, defining appropriate interventions, and assisting in determining evaluation tools for racial and ethnic health activities.

• Coordinates consolidated reporting on communication and educational activities targeting racial and ethnic populations.

Faith-Based and Community Initiatives Functions

• Coordinates a comprehensive effort to incorporate faith-based and other community organizations into CMS programs and initiatives.

• Develops and coordinates effective outreach and education efforts to disseminate information regarding CMS programs, contracting opportunities, and other initiatives to faith-based and other community organizations.

19. Office of Health Insurance Portability and Accountability Act Standards (FHA)

• Develops, implements and administers the enforcement of the Health Insurance Portability and Accountability Act (HIPAA) including portability, transactions, code sets, identifiers, and security.

• Develops, implements and administers the enforcement of the Administrative Simplification Compliance Act (ASCA).

• Develops regulations to enforce the provisions of the HIPAA and the ASCA. Also develops regulations and guidance materials on HIPAA standards.

• Educates and reaches out to the public and internal CMS staff on HIPAA issues. Formulates and coordinates a public relations campaign, prepares and delivers presentations and speeches, responds to inquires on HIPAA issues, and liaisons with industry representatives.

• Works with Federal departments and agencies to identify and adopt universal messaging and clinical health data standards, and represents CMS and HHS in national projects supporting the national health enterprise architecture and the National Health Information Infrastructure.

• Provides technical assistance regarding HIPAA standards and their implementation.

• Collaborates with the Department, especially the Office for Civil Rights, on HIPAA policy issues.

• Coordinates and provides guidance on legislative and regulatory issues.

• Provides assistance and guidance for HIPAA-related budget formulation and execution activities.

• Oversees the enforcement of the insurance portability provisions of HIPAA related to non-Federal governmental health plans and States.

Dated: November 21, 2002.
Ruben J. King-Shaw, Jr.,
Deputy Administrator and Chief Operating Officer, Centers for Medicare & Medicaid Services.

[FR Doc. 03-4086 Filed 2-19-03; 8:45 am]

BILLING CODE 4120-01-P